DEPARTMENT OF HOMELAND SECURITY

Federal Emergency Management Agency

44 CFR Part 67

[Docket No. FEMA-B-7437]

Proposed Flood Elevation Determinations

AGENCY: Federal Emergency Management Agency, Emergency Preparedness and Response Directorate, Department of Homeland Security.

ACTION: Proposed rule.

SUMMARY: Technical information or comments are requested on the proposed Base (1% annual chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the following table.

FOR FURTHER INFORMATION CONTACT: Mary Jean Pajak, Federal Emergency Management Agency, 500 C Street SW., Washington, DC 20472, (202) 646-2831.

SUPPLEMENTARY INFORMATION: The Federal Emergency Management Agency proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director of the Emergency Preparedness and Response Directorate certifies that this proposed rule is exempt from the requirements of the Regulatory Flexibility Act because proposed or modified BFEs are required by the Flood Disaster Protection Act of 1973, 42 U.S.C. 4104, and are required to establish and maintain community eligibility in the NFIP. No regulatory flexibility analysis has been prepared.

Regulatory Classification. This proposed rule is not a significant regulatory action under the criteria of section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376, § 67.4.

2. The tables published under the authority of § 67.4 are proposed to be amended as follows:

Flooding source(s) | Location of referenced elevation | Elevation in feet *(NGVD): Effective | Elevation in feet *(NGVD): Modified | Communities affected
CALIFORNIA
Merced County, and Incorporated Areas.
Bear Creek | At McKee Road | *183 | *183 | Merced County (Uninc. Areas).
| Just upstream of Bear Creek Drive | None | *225
Black Rascal Diversion Channel | At confluence with Bear Creek | None | *199 | Merced County (Uninc. Areas).
| Approximately 3,700 feet upstream East Olive Avenue | None | *202
Local Ponding | Northeast of the intersection of East Childs Avenue and Fairfield Canal | None | *200 | Merced County (Uninc. Areas), City of Merced.
| Northeast of the intersection of Mission Avenue and South Arboleda Drive | None | *200
Local Ponding | Northeast of the intersection of East Childs Avenue and Tower Road | None | *196 | Merced County (Uninc. Areas), City of Merced.
| Southeast of the intersection of Le Grand Road and US Highway 99 | None | *196
| Northeast of the intersection of Gerarad Avenue and the Fairfield Canal | None | *196
Local Ponding | Northeast of the intersection of Mission Avenue and the Fairfield Canal | None | *193 | Merced County (Uninc. Areas).
Local Ponding | Northeast of the intersection of East Childs Avenue and Kirby Road | None | *191 | City of Merced.
Local Ponding | Northwest of the intersection of State Highway 140 and Easy Street | None | *190 | Merced County (Uninc. Areas), City of Merced.
Local Ponding | Southeast of the intersection of US Highway 99 and Mariposa Way | None | *189 | Merced County (Uninc. Areas).
Local Ponding | Northeast and Southeast of the Intersection of East Childs Avenue and the Hartley Bradley Lateral | None | *186 | Merced County (Uninc. Areas), City of Merced.
Local Ponding | Southeast of the intersection of US Highway 99 and Vassar Avenue | None | *183 | Merced County (Uninc. Areas).
Local Ponding | Southeast of the intersection of US Highway 99 and Mission Avenue | None | *179 | Merced County (Uninc. Areas).
| Northeast of the intersection of Sandy Mush Road and Givens-Lustre Road | None | *179
Local Ponding | Northeast and Southeast of the intersection of US Highway 99 and McHenry Road | None | *185 | Merced County (Uninc. Areas).
Local Ponding | Southeast of the intersection of East Childs Avenue and Carol Avenue | None | *176 | City of Merced.
Local Ponding | Northeast of the intersection of Mission Avenue and Tyler Road | None | *165 | Merced County (Uninc. Areas).
Local Ponding | Northeast of the intersection of Healy Road and Deadman Creek | None | *164 | Merced County (Uninc. Areas).
Local Ponding | Northeast of the intersection of State Highway 59 and Duck Slough | None | *151 | Merced County (Uninc. Areas).
Local Ponding | Northeast of the intersection of Mariposa Way and Burchell Avenue | None | *237 | Merced County (Uninc. Areas).
Local Ponding | Northeast of the intersection of Gerard Avenue and Plainsburg Avenue | None | *226 | Merced County (Uninc. Areas).
Local Ponding | Southeast of the intersection of Kadota Avenue and Plainsburg Road | None | *222 | Merced County (Uninc. Areas).
Shallow Flooding | From the intersection of Woodland Avenue South and West to State Highway 59 | None | #1 | Merced County (Uninc. Areas), City of Merced.
| From the AT & SF Railroad West to State Highway 59 | None | #1
Shallow Flooding | From the AT & SF Railroad West to State Highway 59 | None | #2 | Merced County (Uninc. Areas).
Shallow Flooding | Northeast of the intersection of State Highway 59 and Duck Slough | None | #3 | Merced County (Uninc. Areas).
ADDRESSES
Merced County (Unincorporated Areas)
Maps are available for inspection at Merced County Department of Public Works, 715 Martin Luther King Jr. Way, Merced, CA 95340.
Send comments to The Honorable Joe Rivero, Chairman, Merced County Board of Supervisors, 2222 M Street, Merced, CA 95340.
City of Merced
Maps are available for inspection at City Hall, 678 West 18th Street, Merced, CA 95340.

State | City/town/county | Source of flooding | Location | #Depth in feet above ground. *Elevation in feet. (NGVD): Existing | #Depth in feet above ground. *Elevation in feet. (NGVD): Modified
Hawaii | Hawaii County | Kaluiiki Branch | At confluence of Waipahoehoe Stream and Alenaio Stream | None | *754
|  |  | Approximately 200 feet upstream of Akala Road | None | *860
|  | Waipahoehoe Stream | At confluence with Kaluiiki Branch and Alenaio Stream | None | *754
|  |  | Approximately 100 feet upstream of Akala Road | None | *811
|  | Alenaio Stream | Just upstream of Kaumana Drive | *708 | *708
|  |  | At confluence of Kaluiiki Branch and Waipahoehoe Stream | *752 | *754
Maps are available for inspection at the Hawaii County Department of Public Works, Engineering Division, 25 Aupuni Street, Hilo, Hawaii 96720. | Send comments to The Honorable Harry Kim, Mayor, Hawaii County, 25 Aupuni Street, Hilo, Hawaii 96720.

(Catalog of Federal Domestic Assistance No. 83.100, “Flood Insurance”)
Dated: June 24, 2003.
Anthony S. Lowe,
Mitigation Division Director, Emergency Preparedness and Response Directorate.

[FR Doc. 03-16541 Filed 6-30-03; 8:45 am]

BILLING CODE 6718-04-P